DEPARTMENT OF COMMERCE

International Trade Administration

A-580-825

Notice of Extension of Time Limit for Final Results of Administrative Review: Oil Country Tubular Goods, Other Than Drill Pipe, From Korea

AGENCY: Import Administration, International Trade Administration, Department of Commerce.

EFFECTIVE DATE: December 22, 2006.

FOR FURTHER INFORMATION CONTACT: Scott Lindsay, Nicholas Czajkowski, or Dara Iserson, AD/CVD Operations, Office 6, Import Administration, International Trade Administration, U.S. Department of Commerce, 14th Street and Constitution Avenue, N.W., Washington, DC 20230; telephone: (202) 482-0780, (202) 482-1395, or (202) 482-4052, respectively.

SUPPLEMENTARY INFORMATION:

Background

On September 28, 2005, the Department of Commerce (the Department) published a notice of initiation for this antidumping duty administrative review. See Notice of Initiation of Antidumping and Countervailing Duty Administrative Reviews and Request for Revocation in Part, 70 FR 56631 (September 28, 2005). On August 31, 2006, the Department published the preliminary results of this administrative review of the antidumping duty order on oil country tubular goods (OCTG), other than drill pipe, from Korea. See Oil Country Tubular Goods, Other Than Drill Pipe, from Korea: Preliminary Results of Antidumping Duty Administrative Review, 71 FR 51797 (August 31, 2006) (Preliminary Results). We received case briefs on October 2, 2006 and rebuttal briefs on October 10, 2006. On October 24, 2006, the Department decided to permit an additional rebuttal from each petitioner with respect to one issue. The Department received these rebuttal briefs from counsel representing IPSCO Tubulars, Inc., Lone Star Steel Company, and Maverick Tube Corporations on October 30, 2006, as well as from U.S. Steel Corporation on November 1, 2006.

Extension of Time Limits for Final Results

Section 751(a)(3)(A) of the Tariff Act of 1930, as amended (“the Act”), requires the Department to issue the preliminary results of an administrative review within 245 days after the last day of the anniversary month of an antidumping duty order for which a review is requested, and issue the final results within 120 days after the date on which the preliminary results are published. However, if the Department finds it is not practicable to complete the review within the time period, section 751(a)(3)(A) of the Act allows the Department to extend these deadlines to a maximum of 365 days and 180 days, respectively.

We determine that it is not practicable to complete the final results of this review within current statutory limits. Due to the complexity of issues raised in the interested parties' case briefs, specifically regarding the treatment of inventory carrying costs and CEP profit, the Department requires additional time to evaluate these issues properly. Therefore, we are extending the deadline for the final results of this review by 60 days, from December 29, 2006 until no later than February 27, 2006, in accordance with section 751(a)(3)(A) of the Act.

We are issuing and publishing this notice in accordance with sections 751(a)(1), 751(a)(3)(A), and 777(i)(1) of the Act.

Dated: December 18, 2006.
Stephen J. Claeys,
Deputy Assistant Secretary for Import Administration.

[FR Doc. E6-21988 Filed 12-21-06; 8:45 am]

Billing Code: 3510-DS-S